SUSQUEHANNA RIVER BASIN COMMISSION

Projects Approved for Minor Modifications

AGENCY: Susquehanna River Basin Commission.

ACTION: Notice.

SUMMARY: This notice lists the minor modifications approved for a previously approved project by the Susquehanna River Basin Commission during the period set forth in DATES.

DATES: December 1-31, 2023.

ADDRESSES: Susquehanna River Basin Commission, 4423 North Front Street, Harrisburg, PA 17110-1788.

FOR FURTHER INFORMATION CONTACT: Jason E. Oyler, General Counsel and Secretary to the Commission, telephone: (717) 238-0423, ext. 1312; fax (717) 238-2436; email: joyler@srbc.net. Regular mail inquiries may be sent to the above address.

SUPPLEMENTARY INFORMATION: This notice lists previously approved projects receiving approval of minor modifications, described below, pursuant to 18 CFR 806.18 or Commission Resolution Nos. 2013-11 and 2015-06 for the time period specified above.

1. Global Tungsten & Powders LLC (consumptive use), Docket No. 20231221, North Towanda Township and Towanda Borough, Bradford County, Pa.; modification approval to adjust the term of approval and align term with the term of another Commission docket approval; Approval Date: December 15, 2023.

Authority: Public Law 91-575, 84 Stat. 1509 et seq., 18 CFR parts 806 and 808.

Dated: January 5, 2024.
Jason E. Oyler,
General Counsel and Secretary to the Commission.

[FR Doc. 2024-00355 Filed 1-9-24; 8:45 am]

BILLING CODE 7040-01-P